DEPARTMENT OF LABOR

Employment and Training Administration

Notice of Intent To Reestablish the Advisory Committee on Apprenticeship (ACA) Charter and Request for Member Nominations

AGENCY: Employment and Training Administration (ETA), Labor.

ACTION: Notice.

SUMMARY: The Secretary of Labor (Secretary) has determined that the reestablishment of the Advisory Committee on Apprenticeship (ACA or Committee) is necessary and in the public interest. The Department of Labor (DOL) intends to reestablish the ACA charter with revisions which are not intended to change the Committee's purpose or original intent. The revisions update the charter to ensure its closer alignment with the Department's current apprenticeship priorities. Additionally, DOL is requesting nominations of qualified candidates to be considered for appointment to the ACA.

DATES: The reestablishing ACA charter will be filed May 19, 2021. ACA member nominations must be received by June 3, 2021.

ADDRESSES: DOL has adopted a maximum telework posture in response to the COVID-19 pandemic. As such, nominations for individuals to serve on the ACA should be submitted electronically. Interested persons may submit ACA nominations, including relevant attachments, through any of the following methods:

Electronically: Send to: AdvisoryCommitteeonApprenticeship@dol.gov (and please specify in the email subject line, “Nominations for Advisory Committee on Apprenticeship (ACA).”

If you do not have access to an electronic means of submission: please call the Office of Apprenticeship on (202) 693-3795, and leave a message and someone will coordinate a mail submission; however, the Department highly encourages electronic submissions as provided above.

Mail, express delivery, messenger service, or courier service: Submit one copy of the documents listed above to the following address: U.S. Department of Labor, Employment and Training Administration, Office of Apprenticeship, ACA, Room C- 5321, 200 Constitution Avenue NW, Washington, DC 20210.

FOR FURTHER INFORMATION CONTACT: For any questions concerning the ACA nomination process, please contact Ms. Kenya Huckaby, Executive Assistant, Employment and Training Administration, Office of Apprenticeship, at Huckaby.Kenya@dol.gov, telephone (202) 693-3795 (this is not a toll-free number).

SUPPLEMENTARY INFORMATION: Registered Apprenticeship is a unique public private partnership that is highly dependent on the engagement and involvement of its stakeholders and partners for its ongoing operational effectiveness. Apart from the ACA, there is no single organization or group with the broad representation of labor, employers, and the public available to consider the complexities and relationship of apprenticeship activities to other training efforts or to provide advice on such matters to the Secretary. It is particularly important to have such perspectives as DOL considers the expansion of registered apprenticeship, fundamentally instilling a permanent culture of inclusion in our workforce, and supports our Nation's economic recovery in the aftermath of the COVID-19 pandemic. The ACA's insight and recommendations on the best ways to address critical apprenticeship issues to meet the emerging needs of industry, labor, and the public is critical. For these reasons, the Secretary has determined that the reestablishment of a national advisory committee on apprenticeship is necessary and in the public interest.

There is currently no active charter for the ACA as the previous ACA charter expired on December 19, 2018. The pending charter has been revised to ensure alignment with current DOL priorities in the following four sections: (1) Objectives and Scope of Activities; (2) Description of Duties; (3) Designated Federal Officer (DFO); and (4) Membership and Designation.

Summary of the Charter Changes:

1. The Objectives and Scope of Activities section has been updated to reflect the current priorities of the Administration and charge the ACA with providing advice and recommendations on ways to better utilize the apprenticeship training model in order to provide equitable career pathways that advance the dignity of work for everyone.

2. The Description of Duties section has been updated to allow the ACA to engage with a variety of stakeholders and attend site and field visits, in conjunction with committee meetings, in order to visit and explore innovative and emerging apprenticeship models and best practices that can help inform their work. It further calls for the ACA to provide an interim report within six months of the charter's filing and establishes a biennial reporting cycle.

3. The DFO section has been revised to reflect the return of DFO responsibilities to the Office of Apprenticeship Administrator, who served as DFO historically.

4. The Membership and Designation section has been updated to reflect the inclusion of representation of active or recently completed youth apprentices (ages 16-24), additional ex officio members, and program participants.

The ACA is being reestablished in accordance with the provisions of the Federal Advisory Committee Act (FACA), as amended, 5 U.S.C. App. 2. The ACA is charged providing advice and recommendations to the Secretary on a variety of apprenticeship issues. The ACA's duties include assembling, reviewing, and assessing information relating to accelerating the expansion of apprenticeship. In providing advice and recommendations to the Secretary, the ACA will hold regular meetings with agendas that are prepared with guidance provided by the Department; engage with a variety of stakeholders, to include site and field visits, as appropriate; review and provide feedback on research, policies, best practices, and industry and employment trends; and consult with experts and practitioners for information and expertise pertinent to Committee duties and priorities as needed. The ACA will submit to the Secretary an interim report with recommendations on the following:

1. the development and implementation of policies, legislation, and regulations affecting the National Registered Apprenticeship system;

2. strategies to expand apprenticeships into new industries and sectors including, but not limited to, cybersecurity, clean energy, advanced manufacturing, information technology, and healthcare;

3. identify partnerships that can help ensure equitable access and expand participation of nontraditional apprenticeship populations and communities; and

4. develop a plan to convene sector leaders and experts to establish specific frameworks of industry recognized occupational standards.

The ACA will submit to the Secretary no later than June 1 of every odd-numbered year its report which provides advice and recommendations on the following:

1. strategies to expand, modernize, and diversify the National Apprenticeship model;

2. recommendations on how to streamline and increase flexibility to ensure the National Apprenticeship system can better meet the current and future workforce needs; and

3. recommendations to ensure equitable access for all workers to participate and succeed in National Apprenticeship system.

The ACA will consist of a range or 27-30 voting members that represent labor, employers, and the public:

• Employers or Industry Associations

• Labor or Joint Labor-Management Organizations

• Members of the Public, that represent one of the following: State apprenticeship agencies/councils; State or local workforce development board; community-based organizations; career and technical education schools, or local educational agency; postsecondary education and training providers; providers of industry recognized credentials; apprenticeship intermediaries; or active or recently completed youth apprentices (age 16-24).

The ACA will be solely advisory in nature, and will consider testimony, reports, comments, research, evidence, and existing practices as appropriate to develop recommendations for inclusion in its final reports to the Secretary. Members of the ACA serve without compensation, but will be allowed travel expenses, including per diem in lieu of subsistence, to the extent permitted by law for persons serving intermittently in the Government service (5 U.S.C. 5701-5707), consistent with the availability of funds. Each ACA member will serve at the pleasure of the Secretary for a specified term. The Secretary may also appoint members to fill any ACA vacancies for the unexpired portions of the term.

Nomination Process: Any interested person or organization may nominate one or more qualified individuals for membership on the ACA. If you would like to nominate yourself or another person for appointment to the ACA, you must include the following information as part of the application:

• A copy of the nominee's resume;

• A cover letter that provides your reason(s) for nominating the individual, including a description of the relevant experience and subject-matter expertise of that person concerning the development of a skilled workforce through quality apprenticeship programs, and the member category or categories for which the individual would like to be considered;

• If the nominee is an active or recently completed youth apprentices (age 16-24), you must include a letter of support from your apprenticeship sponsor where you are currently enrolled or recently completed your apprenticeship; and

• Contact information for the nominee (name, title, business address, business phone, fax number, and business email address).

In addition, the cover letter must represent that the ACA nominee has agreed to be nominated and is willing to serve on the ACA. Please do not include any information in your nomination submission that you do not want publicly disclosed. In selecting ACA members, the Secretary will consider individuals nominated in response to this Federal Register notice, as well as other qualified individuals. Nominees will be appointed based upon their demonstrated qualifications, professional experience, and demonstrated knowledge of issues related to the scope and purpose of the ACA, as well as the need to obtain a diverse range of views on this important subject.

Suzan G. LeVine,
Principal Deputy Assistant Secretary.

[FR Doc. 2021-09267 Filed 5-3-21; 8:45 am]

BILLING CODE 4510-FR-P